ENVIRONMENTAL PROTECTION AGENCY

40 CFR Part 81

[CAO-70-FOA; FRL-7143-2]

Clean Air Act Attainment Finding; Bullhead City and Payson Nonattainment Areas, AZ; Sacramento and San Bernardino Nonattainment Areas, CA; Particulate Matter of 10 Microns or Less (PM-10)

AGENCY: Environmental Protection Agency (EPA).

ACTION: Final rule.

SUMMARY: EPA has determined that the Bullhead City and Payson moderate PM-10 nonattainment areas in Arizona and the Sacramento and San Bernardino moderate PM-10 nonattainment areas in California have attained the National Ambient Air Quality Standard (NAAQS) for Particulate Matter with an aerodynamic diameter less than or equal to a nominal 10 micrometers (PM-10) by the applicable December 31, 2000, attainment date. This determination is based upon monitored air quality data for the PM-10 NAAQS during the years 1998-2000. This determination of attainment does not redesignate the Bullhead City, Payson, Sacramento and San Bernardino areas to attainment for PM-10. The Clean Air Act requires that, for an area to be redesignated, five criteria must be satisfied including the submittal of a maintenance plan as a State Implementation Plan (SIP) revision. This action also corrects the effective date listed for the moderate nonattainment classification for Bullhead City.

EFFECTIVE DATE: This rule is effective on March 18, 2002.

ADDRESSES: Copies of documents relevant to this action are available for public inspection during normal business hours at the Air Planning Office of the Air Division, Environmental Protection Agency, Region 9, 75 Hawthorne Street, San Francisco, California, 94105-3901.

FOR FURTHER INFORMATION CONTACT: Eleanor Kaplan, Air Planning Office (AIR-2), U.S. Environmental Protection Agency, Region 9, (415) 947-4147 or kaplan.eleanor@epa.gov.

SUPPLEMENTARY INFORMATION: Throughout this document, wherever “we”, “us”, or “our” are used, we mean the Environmental Protection Agency (EPA).

Background

On July 25, 2001 (see 66 FR 38603), EPA published a notice of proposed rulemaking that announced our proposed finding that the moderate nonattainment areas of Bullhead City and Payson in Arizona and the moderate nonattainment areas of San Bernardino and Sacramento in California have attained the National Ambient Air Quality Standards (NAAQS) for particulate matter of nominal aerodynamic diameters smaller than 10 micrometers (PM-10). The rationale for EPA's finding was explained in the proposal and will not be restated here. In the proposed rule, we also indicated that we were correcting the effective date for our classification of Bullhead City as moderate nonattainment for PM-10 in part 81 of title 40 of the Code of Federal Regulations. The proposed rule provided for a 30-day public comment period which ended on August 24, 2001.

Public Comment and EPA Responses

During the 30-day comment period, we received two comment letters: one from the California Air Resources Board (CARB) dated August 24, 2001, and one from the Sacramento Metropolitan Air Quality Management District (“District”) dated August 21, 2001. These two letters include specific comments that are relevant to this rulemaking. In addition, they contain comments that are not relevant to this particular action but relate instead to the original redesignation of Sacramento County as nonattainment for PM-10. During the 30-day comment period, we received no comments related to the Bullhead City and Payson PM-10 nonattainment areas. Subsequent to the 30-day comment period, however, the Arizona Department of Environmental Quality (ADEQ) notified us of an error in the data table for the Payson area that was included in the proposed attainment finding, and we have addressed that comment in this final action. We have considered all of the comments received and are providing the following responses.

Comment: CARB agrees with EPA's proposed finding that the Sacramento and San Bernardino PM-10 nonattainment areas have attained the standard. The District expresses its support for the proposed finding for Sacramento County.

Response: With this action and consistent with section 188(b)(2) of the Act, EPA is finalizing its attainment findings with respect to all four PM-10 nonattainment areas listed in the proposed rule: The Bullhead City and Payson PM-10 nonattainment areas in Arizona and the Sacramento and San Bernardino PM-10 nonattainment areas in California.

Comment: Both CARB and the District urge EPA to correct the original redesignation of Sacramento County in 1993 as a PM-10 nonattainment area based on the adverse findings of a data audit conducted by CARB in 1996 on the District's PM-10 data that formed the basis for our nonattainment redesignation. CARB asserts that EPA staff concurred with their findings of invalid data, notes that EPA has used its authority under section 110(k)(6) to correct nonattainment designations in other areas based on information not available at the time of the original nonattainment designation, and notes the drain on resources necessary to develop and approve a maintenance plan. Lastly, both CARB and the District note that EPA has not formally responded to CARB's 1996 letter requesting this corrective action.

Response: These comments are not relevant to this rulemaking because they do not raise questions concerning the validity of the PM-10 data (from the 1998-2000 period) that provided us with the basis for our proposed attainment finding. With respect to CARB's request for a correction of our PM-10 nonattainment redesignation of Sacramento County, we note that we recently provided CARB with a written response indicating that such a corrective action by EPA will not be forthcoming. In that written response, we provide responses to the additional comments that CARB and the District raise on the redesignation issue in their comment letters on the proposed attainment finding. EPA is aware of the competing demands on a State's resources particularly when it is in nonattainment status for more than one criteria pollutant, and we remain committed to working cooperatively with CARB and the District in resolving these planning issues.

Comment: The District states: “* * * there may be a typo in the data table, Summary of PM-10 Air Quality Sacramento County 1998-2000, on page 38607 of the Federal Register. The highest 24-hour PM-10 concentration for the Sacramento-Branch Center monitoring site in 1998 is incorrectly listed as 86 μg/m³, while it is correctly recorded as 81 μg/m³ in the EPA AIRS database and District records.”

Response: EPA has reviewed the referenced data in the AIRS database and concurs with the District that the proposal for this notice contained a typographical error in citing the 1998 data for the Sacramento Branch Center monitoring site. The corrected table for Sacramento reads as follows:

Summary of PM-10 Air Quality Sacramento County 1998-2000
Site | Highest 24 hour concentration (μg/m³): 1998 | Highest 24 hour concentration (μg/m³): 1999 | Highest 24 hour concentration (μg/m³): 2000 | Annual average (μg/m³): 1998 | Annual average (μg/m³): 1999 | Annual average (μg/m³): 2000 | 3-year annual average (μg/m³)
North Highlands | 73 | 73 | 82 | 22 | 26 | 23 | 24
Del Paso | 104 | 141 | 58 | 22 | 27 | 21 | 23
Sacramento—Health Center | 79 | 88 | 86 | 23 | 25 | 31 | 26
Sacramento—Branch Center Rd | 81 | 86 | 56 | 27 | 33 | 27 | 29
Sacramento—T Street | 75 | 99 | 64 | 23 | 29 | 25 | 26

Comment: ADEQ requested a correction of the number given for the 1999 maximum 24-hour PM-10 concentration in Payson contained in the proposal to 56 μg/m³ instead of the number that was given.

Response: EPA has reviewed the referenced data and concurs with ADEQ that the proposal for this notice contained an error in citing the 1999 data for the Payson monitoring site. The corrected table for Payson reads as follows:

Summary of 24 Hour and Annual PM-10 Concentrations (μg/m³) Payson 1998-2000
| Year: 1998 * | Year: 1999 | Year: 2000
Maximum 24 Hour Concentration | 69 | 56 | 88
Annual Average | 24 | 29 | 24
3-Year Annual Average | 26

EPA's Final Action

After consideration of the relevant comments received, we have decided to finalize our determination under section 188(b)(2) of the Act that the Bullhead City, Payson, Sacramento and San Bernardino nonattainment areas have attained the PM-10 NAAQS by the applicable attainment date. This finding should not be confused with a redesignation to attainment under section 107(d) of the Act. The designation status in 40 CFR part 81 will remain moderate nonattainment for these four PM-10 nonattainment areas until such time as EPA finds that these areas have met the requirements under the Act for redesignation to attainment.

In the proposal for this action EPA stated that the current Code of Federal Regulations (CFR), Part 81.303, gives an incorrect date, namely January 20, 1990, for the classification of Bullhead City as a “moderate” PM-10 nonattainment area. In this action, EPA is correcting the current Code of Federal Regulations (CFR), 40 CFR 81.303, so that the date of Bullhead City's nonattainment classification as moderate appears as January 20, 1994.

EPA is correcting the table contained in the proposal for this action titled “Summary of PM-10 Air Quality Sacramento County 1998-2000” to show that the highest 24-hour PM-10 concentration for the Sacramento-Branch Center Road monitoring site in 1998 is listed as 81 μg/m³.

EPA is correcting the table contained in the proposal for this action titled “Summary of 24 hour and Annual PM-10 Concentrations (μg/m³) Payson 1998-2000” to show that the 1999 maximum 24 hour PM-10 concentration in Payson is listed as 56 μg/m³.

Administrative Requirements

A. General Requirements

Under Executive Order 12866 (58 FR 51735, October 4, 1993), this action is not a “significant regulatory action” and therefore is not subject to review by the Office of Management and Budget. For this reason, this action is also not subject to Executive Order 32111, “Actions Concerning Regulations That Significantly Affect Energy Supply, Distribution, or Use” (66 FR 28355, May 22, 2001). This action merely makes a determination based on air quality data and does not impose any requirements. Accordingly, the Administrator certifies that this rule will not have a significant economic impact on a substantial number of small entities under the Regulatory Flexibility Act (5 U.S.C. 601 et seq.). Because this rule does not impose any additional enforceable duty, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely makes a determination based on air quality data and does not alter the relationship or the distribution of power and responsibilities established in the Clean Air Act. This rule also is not subject to Executive Order 13045 (62 FR 19885, April 23, 1997), because it is not economically significant.

The requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2). This rule will be effective March 18, 2002.

Under section 307(b)(1) of the Clean Air Act, petitions for judicial review of this action must be filed in the United States Court of Appeals for the appropriate circuit by April 16, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2))

List of Subjects in 40 CFR Part 81

Environmental protection, Air pollution control, Intergovernmental relations, Particulate matter, Reporting and recordkeeping requirements.

Dated: January 28, 2002.
Laura Yoshii,
Deputy Regional Administrator, Region 9.

Part 81, chapter I, title 40 of the Code of Federal Regulations is amended as follows:

PART 81—[AMENDED]

1. The authority citation for Part 81 continues to read as follows:

Authority: 42 U.S.C. 7401-7671, et seq.

Subpart D—Arizona

2. In § 81.303, the table for Arizona-PM-10 is amended by revising the entry for Mohave County (part) to read as follows:

§ 81.303 Arizona.

* * * * *

Arizona-PM-10
Designation area | Designation: Date | Designation: Type | Classification: Date | Classification: Type
* * * * * * *
Mohave County (part):
Bullhead City: T21N, R20-21W, excluding Lake Mead National Recreation Area: T20N, R20-22W; T19N, R21-22W excluding Fort Mohave Indian Reservation | 1/20/94 | Nonattainment | 1/20/94 | Moderate.

* * * * *

[FR Doc. 02-3769 Filed 2-14-02; 8:45 am]

BILLING CODE 6560-50-P